DEPARTMENT OF TRANSPORTATION

Federal Aviation Administration

14 CFR Part 39

[Docket No. FAA-2005-22148; Directorate Identifier 2005-NM-033-AD]

RIN 2120-AA64

Airworthiness Directives; Airbus Model A300 B2 and A300 B4 Series Airplanes; A300 B4-600, B4-600R, and F4-600R Series Airplanes, and C4-605R Variant F Airplanes (Collectively Called A300-600 Series Airplanes); and Airbus Model A310-200 and A310-300 Series Airplanes

AGENCY: Federal Aviation Administration (FAA), Department of Transportation (DOT).

ACTION: Notice of proposed rulemaking (NPRM).

SUMMARY: The FAA proposes to supersede an existing airworthiness directive (AD) that applies to certain Airbus model A300-600 and A310 series airplanes. The existing AD currently requires repetitive visual inspections to detect corrosion on the lower rim area of the fuselage rear pressure bulkhead; and follow-on actions, if necessary. This proposed AD would require new repetitive inspections for corrosion on the rear pressure bulkhead between stringer (STGR) 27 (right hand) and STGR27 (left hand), and related investigative/corrective actions if necessary. This proposed AD also would require sending a report of certain information to the manufacturer. The proposed AD also would add airplanes to the applicability of the existing AD. This proposed AD results from findings of severe corrosion on airplanes previously inspected in accordance with the existing AD. We are proposing this AD to detect and correct corrosion at the lower rim area of the fuselage rear pressure bulkhead, which could result in reduced structural integrity of the bulkhead, and consequent decompression of the cabin.

DATES: We must receive comments on this proposed AD by September 21, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, Room PL-401, Washington, DC 20590.

• Fax: (202) 493-2251.

• Hand Delivery: Room PL-401 on the plaza level of the Nassif Building, 400 Seventh Street SW., Washington, DC, between 9 a.m. and 5 p.m., Monday through Friday, except Federal holidays.

Contact Airbus, 1 Rond Point Maurice Bellonte, 31707 Blagnac Cedex, France, for Airbus Model A310 service information identified in this proposed AD. Contact Jacques Leborgne, Airbus Customer Service Directorate, 1 Rond Point Maurice Bellonte, 31707 Blagnac Cedex, France; fax (+33) 5 61 93 36 14, for Airbus Model A300 service information identified in this proposed AD.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION:

Comments Invited

We invite you to submit any relevant written data, views, or arguments regarding this proposed AD. Include the docket number “Docket No. FAA-2005-22148; Directorate Identifier 2005-NM-033-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of our docket web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

On September 10, 1998, we issued AD 98-19-22, amendment 39-10763 (63 FR 49656, September 17, 1998), for certain Airbus Model A310 and A300-600 series airplanes. That AD requires repetitive visual inspections to detect corrosion on the lower rim area of the fuselage rear pressure bulkhead; and follow-on actions, if necessary. That AD resulted from issuance of mandatory continuing airworthiness information by a foreign civil airworthiness authority. We issued that AD to detect and correct corrosion at the lower rim area of the fuselage rear pressure bulkhead, which could result in reduced structural integrity of the bulkhead, and consequent decompression of the cabin.

Other Relevant Rulemaking

On June 21, 2001, we issued AD 2001-14-17, amendment 39-12328 (66 FR 36154, July 11, 2001), for all Airbus Model A300 B2 and B4 series airplanes. That AD requires a one-time inspection to detect and correct corrosion of the lower bulkhead attachment, and corrective action, if necessary. That AD was prompted by reported failure of the rear pressure bulkhead on an Airbus Model A300 series airplane during flight, which lead to rapid cabin decompression. We issued that AD to detect and correct corrosion of the lower bulkhead attachment, which could result in reduced structural integrity of the rear pressure bulkhead and consequent damage to components of the flight control, hydraulic, and auxiliary power unit fuel systems.

AD 2001-14-17 mandated a one-time inspection within 2 to 4 weeks after July 26, 2001 (the effective date of AD 2001-14-17). Based on results of this one-time inspection, the manufacturer developed a modification for certain Airbus Model A300-600 series airplanes, and Model A310 series airplanes; these airplanes are also included in the applicability this proposed AD. That Airbus modification is the subject of another proposed AD: Docket No. FAA-2005-21343; Directorate Identifier 2004-NM-117-AD (70 FR 32547, June 3, 2005).

Actions Since AD 98-19-22 Was Issued

Since we issued AD 98-19-22, severe corrosion has been found on certain airplanes that were previously inspected in accordance with that AD. Based on those findings, we have determined that the inspection methods in AD 98-19-22 are obsolete and inadequate, and that a new inspection program is necessary. Therefore, the actions from AD 98-19-22 are not retained or repeated in this proposed AD. In addition, since we issued AD 98-19-22, we have determined that certain additional Airbus Model A300 B2 and A300 B4, and Airbus Model A310-200 and A310-300 series airplanes would be affected by the actions in this proposed AD.

Relevant Service Information

Airbus has issued the service bulletins in the following table.

Airbus Service Bulletins
Airbus model | Service bulletin | Date
A300 B2 and A300 B4 series airplanes | A300-53-0363 | October 27, 2004.
A300-600 series airplanes | A300-53-6136 | October 27, 2004.
A310-200 and A310-300 series airplanes | A310-53-2114 | October 27, 2004.

The service bulletins provide procedures for doing the following repetitive inspections for corrosion on the rear pressure bulkhead between stringer (STGR) 27 (right hand) and STGR27 (left hand):

• Two special detailed inspections, one before cleaning and one after cleaning, of the internal and external surface of the lower rim angle in the area of the drainhole (inspection areas AI, AII, AIII, and B);

• A detailed visual inspection of the cleat profile splice at the airplane centerline (inspection area C); and

• For A300 B2 and A300 B4 series airplanes: an eddy current inspection and an X-ray inspection of area D.

If corrosion is found during these inspections, the service bulletins provide procedures for doing several related investigative and corrective actions, depending on the inspection area and inspection findings. These related investigative and corrective actions are described below.

For all inspection areas where corrosion was found, the service bulletins provide procedures for doing the following applicable actions, as described in Figure 2, Sheet 2 of the service bulletins:

• If the corrosion is within certain permanent limits specified in the service bulletin, repair the paint, repair the sealant, and re-install the retainer angle if necessary;

• If the corrosion is within certain temporary limits specified in the service bulletin, contact Airbus for repair instructions within 6 months or 1 year, depending on the extent of the corrosion.

• If the corrosion exceeds certain limits specified in the service bulletin, contact Airbus for repair instructions before further flight.

For inspection area AII, the service bulletins provide procedures for doing a detailed visual inspection for corrosion of the newly visible area. If corrosion is found in area AII during this inspection, or if any previous inspection indicates that there may be corrosion in area AIII, the service bulletins provide procedures for removing the retainer angle and support sealant, doing a detailed visual inspection for corrosion, cracks, or cut lines of the newly visible area (inner rim angle and cleat profile), and doing the following applicable actions based on the inspection results:

• If the corrosion is greater than 5.0 mm to the cleat profile, or if no crack is found, remove any corrosion and do the applicable corrective action described in Figure 2, Sheet 2 of the service bulletins.

• If any cut line or crack is found, the corrective action is to contact Airbus for repair instructions.

If, when accomplishing certain inspections, any corrosion is found on or near the fasteners, the service bulletins provide procedures for doing a rototest and installing titanium fasteners instead of steel fasteners. In addition, the service bulletins specify that operators should contact Airbus if any structural repair is necessary.

The service bulletins also specify that operators should send a Record Sheet to the manufacturer related to all inspections and findings.

The DGAC mandated the service information and issued French airworthiness directive F-2004-193, dated December 22, 2004, to ensure the continued airworthiness of these airplanes in France.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that AD action is necessary for airplanes of this type design that are certificated for operation in the United States.

This proposed AD would supersede AD 98-19-22. This proposed AD would require accomplishing the actions specified in the service information described previously, except as discussed under “Differences Among the Proposed AD, the French Airworthiness Directive, and the Service Information.”

This proposed AD also requires that operators report corrosion findings to Airbus. This information will help determine the extent of the corrosion problems in the affected fleets. Based on the results of these reports, we may determine that further corrective action is warranted.

Differences Among the Proposed AD, the French Airworthiness Directive, and the Service Information

The French airworthiness directive states that any repair for detected corrosion must be done within the associated deadlines in Figure 2 Sheet 2 of the applicable service bulletin. Those deadlines, specified in the “Temporary Limits for Removal of Corrosion,” section of the figure, range from 6 months to 1 year depending on the extent of the corrosion damage. To accomplish these repairs, the service bulletins also state that operators should contact Airbus for certain repair instructions. However, this proposed AD would require operators to repair all detected damage that is within the corrosion limits described in the “Temporary Limits for Removal of Corrosion” not at the time specified in Figure 2 Sheet 2 of the applicable service bulletin, but before further flight, and using a method that we, or the DGAC (or its delegated agent) approve.

Although the French airworthiness directive specifies a compliance time based on an airplane's “entry into service,” this proposed AD would specify a compliance time based on “the date of issuance of the original standard airworthiness certificate or the date of issuance of the original export certificate of airworthiness.” This decision is based on our determination that “entry into service” may be interpreted differently by different operators. We find that our proposed terminology is generally understood within the industry and records will always exist that establish these dates with certainty.

Although the service bulletins that are mandated by the French airworthiness directive specify that operators should send a Record Sheet to the manufacturer related to all inspections and findings, this proposed AD would require operators only to report corrosion findings.

These differences have been coordinated with the DGAC.

Clarification of Inspection Terminology

In this proposed AD, the “detailed visual inspection” specified in the service bulletins is referred to as a “detailed inspection.” We have included the definition for a detailed inspection in a note in the proposed AD.

Interim Action

This AD is considered to be interim action. The reports that would be required by this proposed AD will enable the manufacturer to obtain better insight into the nature, cause, and extent of the corrosion, and eventually to develop final action to address the unsafe condition. Once final action has been identified, we may consider further rulemaking.

Costs of Compliance

This proposed AD would affect about 190 airplanes of U.S. registry. The new proposed actions would take about 10 work hours per airplane, at an average labor rate of $65 per work hour. Based on these figures, the estimated cost of the new actions specified in this proposed AD for U.S. operators is $123,500, or $650 per airplane, per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-10763 (63 FR 49656, September 17, 1998) and adding the following new airworthiness directive (AD):

Airbus: Docket No. FAA-2005-22148; Directorate Identifier 2005-NM-033-AD.

Comments Due Date

(a) The FAA must receive comments on this AD action by September 21, 2005.

Affected ADs

(b) This AD supersedes AD 98-19-22, amendment 39-10763.

Applicability

(c) This AD applies to all airplanes identified in Table 1 of this AD, certificated in any category.

Table 1.—Airbus Airplanes Affected by This AD
Airbus model | As identified in Airbus Service Bulletin— | Dated—
A300 B2-1A, B2-1C, B2K-3C, B2-203, B4-2C, B4-103, and B4-203 airplanes | A300-53-0363 | October 27, 2004.
A300 B4-601, B4-603, B4-620, B4-622, A300 B4-605R, B4-622R, F4-605R, F4-622R, and A300 C4-605R Variant F airplanes | A300-53-6136 | October 27, 2004.
A310-203, -204, -221, -222, -304, -322, -324, and -325 airplanes | A310-53-2114 | October 27, 2004.

Unsafe Condition

(d) This AD results from findings of severe corrosion on airplanes previously inspected in accordance with the existing AD. We are issuing this AD to detect and correct corrosion at the lower rim area of the fuselage rear pressure bulkhead, which could result in reduced structural integrity of the bulkhead, and consequent decompression of the cabin.

Compliance

(e) You are responsible for having the actions required by this AD performed within the compliance times specified, unless the actions have already been done.

Service Bulletin Reference

(f) For the purposes of this AD, the term “service bulletin” means the accomplishment instructions of the applicable service bulletin identified in Table 1 of this AD.

Inspections and Corrective Actions

(g) Within 60 months since the date of issuance of the original standard airworthiness certificate or the date of issuance of the original export certificate of airworthiness; or within 18 months after the effective date of this AD; whichever is later: Do the detailed inspection, special detailed inspections, and any applicable eddy current and X-ray inspection, for corrosion on the rear pressure bulkhead between stringer (STGR) 27 (right hand) and STGR27 (left hand) in accordance with the applicable service bulletin, and repeat these inspections thereafter at intervals not to exceed 36 months. Do any applicable related investigative and corrective actions before further flight in accordance with the applicable service bulletin, except as provided by paragraph (h) of this AD.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Note 2: For the purposes of this AD, a special detailed inspection is: “An intensive examination of a specific item, installation, or assembly to detect damage, failure, or irregularity. The examination is likely to make extensive use of specialized inspection techniques and/or equipment. Intricate cleaning and substantial access or disassembly procedure may be required.”

(h) If any corrosion damage or crack is found during any inspection or corrective action required by this AD, and the service bulletin recommends contacting Airbus for repair instructions: Before further flight, repair in accordance with a method approved by the Manager, International Branch, ANM-116, FAA, Transport Airplane Directorate.

Reporting

(i) Submit a report of corrosion found during the inspections required by paragraph (g) of this AD to SE-A21, AIRBUS CUSTOMER SERVICES DIRECTORATE, 1 Rond Point Maurice Bellonte, 31707 Blagnac Cedex, France, at the applicable time specified in paragraph (i)(1) or (i)(2) of this AD. The report must include the inspection type, a description of any corrosion found, the airplane serial number, and the number of landings and flight hours on the airplane. Under the provisions of the Paperwork Reduction Act of 1980 (44 U.S.C. 3501 et seq.), the Office of Management and Budget (OMB) has approved the information collection requirements contained in this AD and has assigned OMB Control Number 2120-0056.

(1) If the inspection was done after the effective date of this AD: Submit the report within 30 days after the inspection.

(2) If the inspection was accomplished prior to the effective date of this AD: Submit the report within 30 days after the effective date of this AD.

Alternative Methods of Compliance (AMOCs)

(j)(1) The Manager, International Branch, ANM-116, has the authority to approve AMOCs for this AD, if requested in accordance with the procedures found in 14 CFR 39.19.

(2) AMOCs approved previously according to AD 98-19-22, amendment 39-10763, are not approved as AMOCs for this AD.

Related Information

(k) French airworthiness F-2004-193 dated December 22, 2004, also addresses the subject of this AD.

Issued in Renton, Washington, on August 11, 2005.
Kalene C. Yanamura,
Acting Manager, Transport Airplane Directorate, Aircraft Certification Service.

[FR Doc. 05-16534 Filed 8-19-05; 8:45 am]

BILLING CODE 4910-13-P